DEPARTMENT OF AGRICULTURE

Forest Service

Oregon Coast Provincial Advisory Committee

AGENCY: Forest Service, USDA.

ACTION: Notice of meeting.

SUMMARY: The Oregon Coast Province Advisory Committee will meet at Beazell Center, Kings Valley Highway. The theme of the meeting is Introduction/Overview Business Planning. The agenda includes: Daylight Decisions, Public involvement for BLM's Western Oregon Planning Revision, Forest Service Travel Management Update.

DATES: The meeting will be held April 19, 2007, beginning at 9 a.m.

ADDRESSES: The meeting will be held at 37309 Kings Valley Highway, Philomath, Oregon 97370.

FOR FURTHER INFORMATION CONTACT: Joni Quarnstrom, Public Affairs Specialist, Siuslaw National Forest, 541-750-7075, or write to Siuslaw National Forest Supervisor, 4077 SW Research Way, Corvallis, OR 97339.

SUPPLEMENTARY INFORMATION: The meeting is open to the public. Council Discussion is limited to Forest Service/BLM staff and Council Members. Lunch will be on your own. A public input session will be at 11:30 a.m. for fifteen minutes. The meeting is expected to adjourn around 3:30 p.m.

Dated: April 6, 2007.
Mary Zuschlag,
Natural Resource Staff.

[FR Doc. 07-1815 Filed 4-11-07; 8:45 am]

BILLING CODE 3410-11-M